DEPARTMENT OF THE INTERIOR

National Park Service

[NPS-WASO-NAGPRA-NPS0035038; PPWOCRADN0-PCU00RP14.R50000]

Notice of Inventory Completion: Santa Barbara Museum of Natural History, Santa Barbara, CA

AGENCY: National Park Service, Interior.

ACTION: Notice.

SUMMARY: In accordance with the Native American Graves Protection and Repatriation Act (NAGPRA), the Santa Barbara Museum of Natural History has completed an inventory of human remains and associated funerary objects and has determined that there is a cultural affiliation between the human remains and associated funerary objects and Indian Tribes or Native Hawaiian organizations in this notice. The human remains and associated funerary objects were removed from Pinal County, Maricopa County, and Pima County, AZ.

DATES: Repatriation of the human remains and associated funerary objects in this notice may occur on or after January 19, 2023.

ADDRESSES: Luke Swetland, President and CEO, Santa Barbara Museum of Natural History, 2559 Puesta del Sol, Santa Barbara, CA 93105, telephone (805) 682-4711, email lswetland@sbnature2.org.

SUPPLEMENTARY INFORMATION: This notice is published as part of the National Park Service's administrative responsibilities under NAGPRA. The determinations in this notice are the sole responsibility of the Santa Barbara Museum of Natural History. The National Park Service is not responsible for the determinations in this notice. Additional information on the determinations in this notice, including the results of consultation, can be found in the inventory or related records held by the Santa Barbara Museum of Natural History.

Description

Human remains representing, at minimum, three individuals were removed from Pinal County, Maricopa County, and Pima County, AZ.

On September 10, 1915, Frank A. Thackery collected a Hohokam ceramic funerary vessel containing cremated human remains and a potsherd from the Gila River Indian Reservation during the excavation of a sewer ditch running north from the new Sacaton hospital to the Little Gila canal, in Sacaton, AZ. In 1995, Eric Hvolboll donated this burial to the Santa Barbara Museum of Natural History. The two associated funerary objects are the ceramic funerary vessel and the ceramic potsherd contained within it.

Sometime prior to October 23, 1933, the Gila Pueblo Archaeological Foundation (Globe, AZ) excavated a Hohokam ceramic funerary vessel containing cremated human remains from the archeological site of Casa Buena in Phoenix, AZ. Harold Gladwin, the archeologist who founded the Gila Pueblo Archaeological Foundation, donated this burial to the Santa Barbara Museum of Natural History, and it was accessioned on October 23, 1933. The one associated funerary object is the ceramic funerary vessel.

Sometime prior to 1950, a Hohokam ceramic funerary vessel containing cremated human remains was removed from the site of the Russell Ranch School in Tucson, AZ. On July 30, 1954, Dr. and Mrs. Robert Russell donated this burial to the Santa Barbara Museum of Natural History. The one associated funerary object is the ceramic funerary vessel.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: geographical, kinship, biological, archeological, linguistic, folkloric, oral traditional, historical, and other information or expert opinion.

Determinations

Pursuant to NAGPRA and its implementing regulations, and after consultation with the appropriate Indian Tribes and Native Hawaiian organizations, the Santa Barbara Museum of Natural History has determined that:

• The human remains described in this notice represent the physical remains of three individuals of Native American ancestry.

• The four objects described in this notice are reasonably believed to have been placed with or near individual human remains at the time of death or later as part of the death rite or ceremony.

• There is a relationship of shared group identity that can be reasonably traced between the human remains and associated funerary objects described in this notice and the Ak-Chin Indian Community (previously listed as Ak Chin Indian Community of the Maricopa (Ak Chin) Indian Reservation, Arizona); Gila River Indian Community of the Gila River Indian Reservation, Arizona; Hopi Tribe of Arizona; Salt River Pima-Maricopa Indian Community of the Salt River Reservation, Arizona; Tohono O'odham Nation of Arizona; and the Zuni Tribe of the Zuni Reservation, New Mexico.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 19, 2023. If competing requests for repatriation are received, the Santa Barbara Museum of Natural History must determine the most appropriate requestor prior to repatriation. Requests for joint repatriation of the human remains and associated funerary objects are considered a single request and not competing requests. The Santa Barbara Museum of Natural History is responsible for sending a copy of this notice to the Indian Tribes and Native Hawaiian organizations identified in this notice.

Authority: Native American Graves Protection and Repatriation Act, 25 U.S.C. 3003, and the implementing regulations, 43 CFR 10.9, § 10.10, and § 10.14.

Dated: December 13, 2022.
Melanie O'Brien,
Manager, National NAGPRA Program.

[FR Doc. 2022-27525 Filed 12-19-22; 8:45 am]

BILLING CODE 4312-52-P